FEDERAL COMMUNICATIONS COMMISSION

Notice of Public Information Collection(s) being Submitted to OMB for Review and Approval

May 8, 2003.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 19, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov.

FOR FURTHER INFORMATION CONTACT: For additional information or copies of the information collections contact Les Smith at (202) 418-0217 or via the Internet at Leslie.Smith@fcc.gov.

SUPPLEMENTARY INFORMATION:

OMB Control Number: 3060-0906.

Title: Annual DTV Report, FCC Form 317.

Form Number: FCC 317.

Type of Review: Revision of a currently approved collection.

Respondents: Business or other for-profit entities; Not-for-profit institutions.

Number of Respondents: 525.

Estimated Time per Response: 0.5-4.0 hours.

Frequency of Response: Recordkeeping; On occasion, annual, and license renewal reporting requirements.

Total Annual Burden: 1,150.

Total Annual Costs: $52,500.

Needs and Uses: The Commission has established a program for assessing and collecting fees for the provision of ancillary or supplementary services by commercial digital television licensees in compliance with Section 336(e)(1) of the Telecommunications Act of 1996. On October 11, 2001, the Commission adopted a Report and Order, In the Matter of Ancillary or Supplementary Use of Digital Television Capacity by Noncommercial Licensees, MM Docket No. 98-203, which extended this requirement to noncommercial educational television licensees. Licensees are required to report, using FCC 317, whether they provided ancillary or supplementary services, which services were provided, the services provided which are subject to a fee, gross revenues received from all feeable ancillary and supplementary services, and the amount of bitstream used to provide ancillary or supplementary service. This data are collected annually from digital television licensees. Licensees providing services subject to a fee will additionally be required annually to file FCC Form 159 (3060-0589) to remit the required fee. Each licensee is required to retain the records supporting the calculation of the fees due for three years from the date of remittance of fees. The data are used by FCC staff to ensure that DTV licensees comply with the requirements of Section 336(e) of the Communications Act.

Federal Communications Commission.
Marlene H. Dortch,
Secretary.

[FR Doc. 03-12499 Filed 5-19-03; 8:45 am]

BILLING CODE 6712-01-P